DEPARTMENT OF AGRICULTURE

Grain Inspection, Packers and Stockyards Administration

Deposting of Stockyards; Correction

AGENCY: Grain Inspection, Packers and Stockyards Administration, USDA.

ACTION: Notice; correction.

SUMMARY: The Grain Inspection, Packers and Stockyards Administration published a notice in the Federal Register deposting 13 previously posted stockyards. Due to a typographical error in the facility number, the wrong stockyard was listed for deposting.

Correction

In the Federal Register of March 18, 2002 (67 FR 11976), make the following corrections in the table:

Facility No. | Name and location of stockyard | Date of posting
Remove the following entry:
FL-124 | Tampa Horse Auction, Thonotosassa, Florida | May 13, 1977.
Add the following entry:
FL-134 | Seffner Mango Livestock Market Seffner, Florida | November 18, 1992.

David R. Shipman,
Acting Administrator, Grain Inspection, Packers and Stockyards Administration.

[FR Doc. 02-8602 Filed 4-9-02; 8:45 am]

BILLING CODE 3410-EN-P